DEPARTMENT OF ENERGY

Federal Energy Regulatory Commission

Combined Notice of Filings #1

Take notice that the Commission received the following electric rate filings:

Docket Numbers: ER11-2780-002.

Applicants: Safe Harbor Water Power Corporation.

Description: Safe Harbor Water Power Corporation's updated market power analysis and notice of change in status related to the merger of Exelon Corporation and Constellation Energy Group, Inc.

Filed Date: 4/11/12.

Accession Number: 20120411-5297.

Comments Due: 5 p.m. ET 6/8/12.

Docket Numbers: ER12-1811-000.

Applicants: Pacific Gas and Electric Company.

Description: Notice of Termination of the Gates E&P Agreement to be effective 3/15/2012.

Filed Date: 5/18/12.

Accession Number: 20120518-5000.

Comments Due: 5 p.m. ET 6/8/12.

Docket Numbers: ER12-1812-000.

Applicants: PacifiCorp.

Description: Application (Specify * * *) of PacifiCorp for waiver of tariff provisions.

Filed Date: 5/17/12.

Accession Number: 20120517-5127.

Comments Due: 5 p.m. ET 6/7/12.

Docket Numbers: ER12-1813-000.

Applicants: The Empire District Electric Company.

Description: Revised OATT Sections to be effective 8/1/2012.

Filed Date: 5/18/12.

Accession Number: 20120518-5065.

Comments Due: 5 p.m. ET 6/8/12.

Take notice that the Commission received the following electric securities filings:

Docket Numbers: ES12-22-000.

Applicants: Cross-Sound Cable Company, LLC.

Description: Supplement to Application of Cross Sound Cable Company, LLC.

Filed Date: 5/14/12.

Accession Number: 20120514-5191.

Comments Due: 5 p.m. ET 5/24/12.

Docket Numbers: ES12-34-001.

Applicants: El Paso Electric Company.

Description: Submission of El Paso Electric Company.

Filed Date: 5/17/12.

Accession Number: 20120517-5077.

Comments Due: 5 p.m. ET 6/7/12.

Docket Numbers: ES12-43-000.

Applicants: MDU Resources Group, Inc.

Description: MDU Resources Group, Inc. Application for Authority to Issue Securities.

Filed Date: 5/18/12.

Accession Number: 20120518-5117.

Comments Due: 5 p.m. ET 6/8/12.

Take notice that the Commission received the following electric reliability filings:

Docket Numbers: RR12-9-000.

Applicants: North American Electric Reliability Corp.

Description: Petition of the North American Electric Reliability Corporation for Approval of Amendments to Delegation Agreement with Midwest Reliability Organization—Amendments to MRO's Bylaws.

Filed Date: 5/17/12.

Accession Number: 20120517-5119.

Comments Due: 5 p.m. ET 6/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2012.
Nathaniel J. Davis, Sr.,
Deputy Secretary.

[FR Doc. 2012-12734 Filed 5-24-12; 8:45 am]

BILLING CODE 6717-01-P